DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Dates and Times: Wednesday, March 31, 2021: 10:00 a.m.-5:30 p.m. EST. Thursday, April 1, 2021: 10:00 a.m.-4:30 p.m. EST.

Place: Virtual.

Status: Open.

Purpose: As outlined in its Charter, the National Committee on Vital and Health Statistics assists and advises the Secretary of HHS on health data, data standards, statistics, privacy, national health information policy, and the Department's strategy to best address those issues. At the March 31-April 1, 2021, meeting, the Committee will receive updates from HHS officials, hold discussions on current health data policy topics, and discuss its work plan for the upcoming period.

The Chair will facilitate discussion of the Committee's draft Fourteenth Report to Congress. The Subcommittee on Standards will discuss plans for furthering work on convergence of administrative and clinical data standards. The Subcommittee on Privacy, Confidentiality, and Security will follow up on its September 2020 hearing on data collection and use with respect to privacy and security during the pandemic and discuss plans for the next topic on which the Subcommittee will develop recommendations. In addition, the Committee anticipates briefings on current projects directly relevant to the Committee's work, such as new standards for Social Determinants of Health (SDOH) data and a comparative analysis of ICD-10-CM with ICD-11 for morbidity coding.

The Committee will reserve time for public comment toward the end of the schedule on both days. Meeting times and topics are subject to change. Please refer to the agenda posted at the NCVHS website for this meeting, https://ncvhs.hhs.gov/meetings/full-committee-meeting-7/, for any updates.

Contact Person for More Information: Substantive program information may be obtained from Rebecca Hines, MHS, Executive Secretary, NCVHS, National Center for Health Statistics, Centers for Disease Control and Prevention, 3311 Toledo Road, Hyattsville, Maryland 20782, or via electronic mail to vgh4@cdc.gov; or by telephone (301) 458-4715. You can find a list of upcoming meetings, recent past meetings, and recent reports and recommendations on the NCVHS website, https://ncvhs.hhs.gov/. You can review the agenda for the meeting and instructions on how to access the broadcast of the meeting by navigating to the March 31-April 1 dates on the home page or on the NCVHS Meetings page, https://ncvhs.hhs.gov/meetings-meeting/.

Should you require reasonable accommodation, please contact the CDC Office of Equal Employment Opportunity on (770) 488-3210 as soon as possible.

Sharon Arnold,
Associate Deputy Assistant Secretary for Planning and Evaluation, Science and Data Policy, Office of the Assistant Secretary for Planning and Evaluation.

[FR Doc. 2021-05009 Filed 3-9-21; 8:45 am]

BILLING CODE 4150-05-P